DEPARTMENT OF ENERGY

Federal Energy Regulatory Commission

Notice of Settlement Agreement and Soliciting Comments

Take notice that the following settlement agreement has been filed with the Commission and is available for public inspection.

a. Type of Application: Settlement Agreement.

b. Project No.: P-12686-004.

c. Date filed: October 10, 2014.

d. Applicant: Baker County, Oregon (Baker County).

e. Name of Project: Mason Dam Hydroelectric Project.

f. Location: The proposed project would be located on the Powder River, at the existing U.S. Bureau of Reclamation's (Reclamation) Mason Dam, near Baker City, in Baker County, Oregon. The project would occupy 6.4 acres of federal land managed by Reclamation and the U.S. Forest Service.

g. Filed Pursuant to: Rule 602 of the Commission's Rules of Practice and Procedure, 18 CFR 385.602.

h. Applicant Contact: Applicant Contact: Fred Warner Jr., Baker County Board of Commissioners Chairman, 1995 Third Street, Baker City, OR 97814, (541) 523-8200.

i. FERC Contact: Jennifer Adams, telephone (202) 502-8087, email jennifer.adams@ferc.gov.

j. Deadline for filing comments: November 20, 2014. Reply comments due December 5, 2014.

All documents (original and eight copies) should be filed with: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Baker County, Oregon (Baker County) filed the Settlement Agreement on behalf of itself and the U.S. Bureau of Reclamation, U.S. Department of Agriculture Forest Service, U.S. Fish and Wildlife Service, Oregon Department of Fish and Wildlife, Oregon Department of Environmental Quality, and Oregon Water Resources Department. The purpose of the Settlement Agreement is to resolve among the signatories all issues associated with issuance of an original license for the project regarding annual coordination meetings, project operation, fish entrainment and passage, water quality, erosion and vegetation and noxious weed management, terrestrial wildlife resources, historic and archeologic resources, emergency contact and action, recreation, and road disturbance. Baker County requests that the Commission accept and incorporate into any original license the project the protection, mitigation, and enhancement measures stated in Appendices A through E of the Settlement Agreement.

l. A copy of the settlement agreement is available for electronic review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

Dated: October 21, 2014.
Kimberly D. Bose,
Secretary.

[FR Doc. 2014-25544 Filed 10-24-14; 8:45 am]

BILLING CODE 6717-01-P